DEPARTMENT OF ENERGY

Federal Energy Regulatory Commission

[Project No. 3251-010]

Cornell University; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 3251-010.

c. Date Filed: June 28, 2019.

d. Applicant: Cornell University.

e. Name of Project: Cornell University Hydroelectric Project (Cornell Project).

f. Location: On Fall Creek within the Cornell University campus in the City of Ithaca, Tompkins County, New York. The project does not occupy federal land.

g. Filed Pursuant to: Federal Power Act 16 U.S.C. 791(a)-825(r).

h. Applicant Contact: Mr. Frank Perry, Manager of Projects, Energy and Sustainability, Humphreys Service Building, Room 131, Cornell University, Ithaca, NY 14853-3701; (607) 255-6634; email fdp1@cornell.edu.

i. FERC Contact: Christopher Millard at (202) 502-8256; or email at christopher.millard@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 27, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3251-010.

m. This application is not ready for environmental analysis at this time.

n. The project works consist of: (1) An existing 28-foot-high, 260-foot-long reinforced-concrete gravity overflow-type dam, known as Beebe Lake Dam, with a crest elevation of 780.7 feet mean sea level (msl); (2) an impoundment (Beebe Lake) with a surface area of 16 acres and a storage capacity of 50 acre-feet at the normal pool elevation of 780.7 feet msl; (3) a concrete forebay wall and reinforced-concrete intake with a 6-foot-high, 6-foot-wide steel vertical-slide gate along the right (north) bank; (4) a 5-foot-diameter, 1,507-foot-long reinforced-concrete underground pipeline and a 5-foot-diameter, 200-foot-long riveted-steel underground penstock; (5) a 79-foot-long, 29-foot-wide, 24-foot-high powerhouse containing two Ossberger turbines and induction generators with a combined authorized capacity of 1,718 kilowatts; (6) a tailrace located on the river right-side of Fall Creek directly below the powerhouse; (7) a 385-foot-long, 2.4-kilovolt transmission line connecting to Cornell's distribution system; and (8) appurtenant facilities.

The Cornell Project is operated in a run-of-river mode and bypasses a 1,800-foot-long reach of Fall Creek that extends from the toe of the dam to the powerhouse tailrace. From 2013 through 2018, the average annual generation was 4,599 megawatt-hours.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—August 2019

Request Additional Information—August 2019

Issue Acceptance Letter—November 2019

Issue Scoping Document 1 for comments—December 2019

Request Additional Information (if necessary)—February 2020

Issue Scoping Document 2—March 2020

Issue notice of ready for environmental analysis—March 2020

Commission issues EA—September 2020

Comments on EA—October 2020

q. Final amendments to the application must be filed with the Commission no later than 30 days from the issuance date of the notice of ready for environmental analysis.

Dated: July 5, 2019.
Kimberly D. Bose,
Secretary.

[FR Doc. 2019-14735 Filed 7-10-19; 8:45 am]

BILLING CODE 6717-01-P